DEPARTMENT OF COMMERCE

International Trade Administration

C-423-809

Stainless Steel Plate in Coils from Belgium: Final Results of Countervailing Duty Administrative Review

AGENCY: Import Administration, International Trade Administration, Department of Commerce.

SUMMARY: On June 6, 2008, the U.S. Department of Commerce (“the Department”) published in the Federal Register its preliminary results of the administrative review of the countervailing duty order on stainless steel plate in coils from Belgium for the period January 1, 2006, through December 31, 2006.

On November 6, 2008, the Department issued a post-preliminary interim analysis regarding certain additional information placed on the record of this administrative review shortly before and after the preliminary results were issued. The final results do not effectively differ from the preliminary results, where we found the net subsidy rate to be de minimis. See section below entitled “Final Results of Review” for further discussion.

EFFECTIVE DATE: December 12, 2008.

FOR FURTHER INFORMATION CONTACT: Alicia Winston or David Layton, AD/CVD Operations, Office 1, Import Administration, U.S. Department of Commerce, 14th Street and Constitution Avenue, NW, Washington, DC 20230; telephone: (202) 482-1785 and (202) 482-0371, respectively.

SUPPLEMENTARY INFORMATION:

Background

The following events have occurred since the publication of the preliminary results of this review. See Stainless Steel Plate in Coils from Belgium: Preliminary Results of Countervailing Duty Administrative Review, 73 FR 32303 (June 6, 2008) (“Preliminary Results”).

On June 12, 2008, the Department extended the briefing and hearing schedules in order to provide parties with additional time to consider supplemental questionnaire responses received after the Preliminary Results, as well as the Department's post-preliminary analysis.

As noted in the Preliminary Results, the Government of Belgium (“GOB”) failed to respond to the Department's April 3, 2008, supplemental questionnaire within the specified deadline. The GOB submitted its response to the Department's April 3, 2008, supplemental questionnaire, subsequent to the Preliminary Results, on July 7, 2008. On July 22, 2008, the Department rejected this response as untimely. However, on August 20, 2008, we informed the GOB that we would grant a final extension for the April 3, 2008, supplemental questionnaire response until September 2, 2008. The GOB refiled its response to the April 3, 2008, supplemental questionnaire on August 22, 2008.

We sent an additional supplemental questionnaire to U&A on June 12, 2008, and received U&A's response on July 9, 2008. On July 22, 2008, the Department rejected U&A's July 9, 2008, response on the grounds that it contained untimely factual information from the GOB. The Department requested that U&A resubmit its supplemental response without the untimely information. On July 28, 2008, counsel for U&A met with Departments officials to discuss this matter. U&A resubmitted its supplemental response on August 15, 2008, and September 8, 2008.

On September 29, 2008, we extended the time limit for the final results of this administrative review by 60 days (to December 3, 2008), pursuant to section 751(a)(3)(A) of the Tariff Act of 1930, as amended (“the Act”). See Stainless Steel Plate in Coils from Belgium: Extension of Time Limit for the Final Results of the Eighth Countervailing Duty Administrative Review, 73 FR 56554 (September 29, 2008).

The Department issued its post-preliminary analysis on November 6, 2008. See Memorandum to David M. Spooner from David Neubacher and Alicia Winston: Post Preliminary Findings (November 6, 2008) (Post-Prelim Analysis). The Department received case briefs from U&A and the GOB on November 14, 2008. No rebuttal briefs were filed. The Department did not conduct a hearing in this review because none was requested.

Period of Review

The period of review (“POR”) for which we are measuring subsidies is January 1, 2006, through December 31, 2006.

Scope of the Order

The products covered by this order are imports of certain stainless steel plate in coils.

Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) plate not in coils, (2) plate that is not annealed or otherwise heat treated and pickled or otherwise descaled, (3) sheet and strip, and (4) flat bars.

The merchandise subject to this order is currently classifiable in the Harmonized Tariff Schedule of the United States (“HTSUS”) at subheadings: 7219.11.00.30, 7219.11.00.60, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the Department's written description of the scope of this order remains dispositive.

This scope language reflects the March 11, 2003, amendment of the antidumping and countervailing duty orders and suspension of liquidation which the Department implemented in accordance with the Court of International Trade (CIT) decision in Allegheny Ludlum v. United States, Slip Op. 02-147 (Dec. 12, 2002). See also Notice of Amended Antidumping Orders; Certain Stainless Steel Plate in Coils from Belgium, Canada, Italy, the Republic of Korea, South Africa, and Taiwan, 68 FR 11520 (March 11, 2003) and Amended CVD Order.

Period of Review

The period for which we are measuring subsidies, i.e., the period of review (“POR”), is January 1, 2006, through December 31, 2006.

Analysis of Comments Received

All issues raised in the case and rebuttal briefs by parties to this review are addressed in the December 3, 2008, Issues and Decision Memorandum for the Eighth Countervailing Duty Administrative Review of Stainless Steel Plate in Coils from Belgium (“Decision Memorandum”), from Stephen J. Claeys, Deputy Assistant Secretary for Import Administration, to David M. Spooner, Assistant Secretary for Import Administration, which is hereby adopted by this notice. Attached to this notice as an appendix is a list of the issues which an interested party has raised and to which we have responded in the Decision Memorandum. Parties can find a complete discussion of all issues raised in this review and the corresponding recommendations in this public memorandum, which is on file in the Department's Central Records Unit, Room 1117 of the main Department building (“CRU”). In addition, a complete version of the Decision Memorandum can be accessed directly on the Web at http://ia.ita.doc.gov/frn/index.html. The paper copy and electronic version of the Decision Memorandum are identical in content.

Final Results of Review

We adjusted the subsidy rate calculation by using the revised sales value reported by U&A. See the Decision Memorandum and see the revised rate calculations in the Memorandum to the File, “2006 Final Results Calculation Memorandum for U&A,” dated December 3, 2008. In the Preliminary Results, we calculated a de minimis rate for U&A, and the rate we have calculated in these final results is still de minimis even though we have revised the sales denominator used in our calculations. For a complete analysis of the programs found to be countervailable, and the basis for the Department's determination, see the Decision Memorandum.

We determine that the total net countervailing subsidy rate for U&A is 0.20 percent ad valorem for the period January 1, 2006, through December 31, 2006, which is de minimis pursuant to 19 CFR 351.106(c)(1). The calculations will be disclosed to the interested parties in accordance with 19 CFR 351.224(b).

Assessment Rates

Because the countervailing duty rate for U&A is de minimis, we will instruct U.S. Customs and Border Protection (“CBP”) to liquidate entries for U&A during the period January 1, 2006, through December 31, 2006, without regard to countervailing duties in accordance with 19 CFR 351.106(c). The Department will issue appropriate instructions directly to CBP 15 days after publication of these final results of this review.

Cash Deposits

Since the countervailable subsidy rate for U&A is zero, the Department will instruct CBP to continue to suspend liquidation of entries, but to collect no cash deposits of estimated countervailing duties for U&A on all shipments of the subject merchandise that are entered, or withdrawn from warehouse, for consumption on or after the date of publication of the final results of this administrative review.

For all non-reviewed firms, we will instruct CBP to collect cash deposits of estimated countervailing duties at the most recent company-specific or all-others rate applicable to the company. These rates shall apply to all non-reviewed companies until a review of a company assigned these rates is requested.

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: December 3, 2008.
David M. Spooner,
Assistant Secretary for Import Administration.

APPENDIX

List of Comments and Issues in the Decision Memorandum

Comment 1: Threshold Requirements

Comment 2: Use of Facts Otherwise Available

Comment 3: SidInvest Benefit Calculation

Comment 4: Ongoing Scope Inquiry

[FR Doc. E8-29528 Filed 12-11-08; 8:45 am]

BILLING CODE 3510-DS-S